DEPARTMENT OF JUSTICE

28 CFR Part 79

[CIV 101N; AG Order 2632-2002]

RIN 1105-AA75

Claims Under the Radiation Exposure Compensation Act Amendments of 2000; Expansion of Coverage to Uranium Millers and Ore Transporters; Expansion of Coverage for Uranium Miners; Representation and Fees

AGENCY: Civil Division, Department of Justice.

ACTION: Proposed rule; reopening of comment period.

SUMMARY: On August 7, 2002, the United States Department of Justice published a proposed rule to implement the Radiation Exposure Compensation Act Amendment of 2000. The original 60-day comment period expired on October 7, 2002. The Department is reopening the comment period for an addition 60-day period.

DATES: Comments must be received on or before January 27, 2003.

ADDRESSES: Comments may be mailed to Gerard W. Fischer, Assistant Director, U.S. Department of Justice, Civil Division, P.O. Box 146, Ben Franklin Station, Washington, DC 20044-0146.

FOR FURTHER INFORMATION CONTACT: Gerard W. Fischer (Assistant Director), (202) 616-4090, and Dianne S. Spellberg (Senior Counsel), (202) 616-4129.

SUPPLEMENTARY INFORMATION: On August 7, 2002, the Department of Justice (Department) published a rule that proposed amendments to the regulations governing radiation exposure compensation claims. The principal reason for the amendments was implement the provisions of the Radiation Exposure Compensation Act (Act) Amendments of 2000 that expanded coverage under the Act to uranium mill workers and individuals employed in the transport of uranium ore or vanadium-uranium ore, and that expanded the population of eligible uranium mine workers by lowering the radiation exposure threshold for miners, by enlarging the number of uranium mining states with respect to which miners may be eligible for compensation, and by including “above ground” miners within the scope of the regulations. See 67 FR 51440.

The Navajo RECA Reform Working Group, a coalition of six organizations within the Navajo Nation, has requested an additional 60-day period in which to provide comment on the proposed rule. This additional period of time would allow the coalition to translate the proposed rule into the Navajo language, thereby allowing the Navajo elders to participate in the regulation review process. Granting this request ensures that this community, as well as other entities and individuals, have ample opportunity to fully review and comment on the proposed rule.

Accordingly, the Department is reopening the comment period and will accept public comments for an additional 60 days after publication of this notice.

Dated: November 22, 2002.
John Ashcroft,
Attorney General.

[FR Doc. 02-30129 Filed 11-26-02; 8:45 am]

BILLING CODE 4410-12-M